DEPARTMENT OF LABOR

Employment and Training Administration

[SGA/DFA 02-107]

Grants for Intermediaries

AGENCY: Employment and Training Administration, Department of Labor.

ACTION: Notice of availability of funds and solicitation for grant applications (SGA). This notice contains all of the necessary information and forms needed to apply for grant funding.

SUMMARY: The Employment and Training Administration (ETA), U.S. Department of Labor (DOL) announces the availability of funds under three separate competitions to award grants (1) States, (2) intermediaries, and (3) small private non-profit organizations. Under these competitions, eligible “intermediaries” are defined as those non-profit, community, and/or faith-based organizations with connections to grassroots faith-based and community organizations with the ability to connect those organizations to the nation's workforce development system in more than one service area. The eligible intermediary does not have to be located in more than one jurisdiction as long as their reach extends beyond one jurisdiction, and the application addresses providing services in more than one jurisdiction.

These awards have three important objectives:

• Increase the number of faith-based and community-based organizations serving as committed and active partners in the One-Stop delivery system

• Expand the access of faith-based and community-based organizations' clients and customers to the services offered by the nation's One-Stops

• Identify, document, showcase and replicate successful instances of faith- and community-based involvement in our system-building.

ETA has identified $14.9 million from the FY 2001 appropriation for One-Stop/America's Labor Market Information System and $500,000 from funds authorized under Section 171 of the Workforce Investment Act for these system-building objectives. A total of $5.0 million is available for this intermediary competition.

DATES: The closing date for receipt of applications is Friday, May 17, 2002. Applications must be received by 4 p.m. (Eastern Standard Time) at the address below: No exceptions to the mailing and hand-delivery conditions set forth in this notice will be granted. Applications that do not meet the conditions set forth in this notice will not be honored. Telefacsimile (FAX) applications will not be honored. Applicants are advised that the Department's receipt of mail has encountered delays because of mail screening procedures at local post offices.

ADDRESSES: Applications must be mailed to: U.S. Department of Labor, Employment and Training Administration, Division of Federal Assistance, Attention: Denise Roach, Reference: SGA/DFA 02-107, 200 Constitution Avenue, NW., Room S-4203, Washington, DC 20210.

Hand Delivered Proposals. If proposals are hand delivered, they must be received at the designated address by 4 p.m., Eastern Time on Friday, May 17, 2002. All overnight mail will be considered to be hand delivered and must be received at the designated place by the specified closing date and time. Telegraphed, e-mail and/or fax proposals will not be honored. Failure to adhere to the above instructions will be a basis for determination of non-responsive.

Late Proposals. A proposal received at the designated office after the exact time specified for receipt will not be considered unless it is received before the award is made and it:

• Was sent by U.S. Postal Service registered or certified mail not later than the fifth day (5th) calendar day before the closing date specified for receipt of applications (e.g. an offer submitted an response to a solicitation requiring receipt of application by the 20th of the month must be mailed by the 15th):

• Was sent by U.S. Postal Service Express Mail Next Day Service, Post Office to Addressee, not later than 5 p.m. at the place of mailing two working days prior to the deadline date specified for receipt of proposals in this SGA. The term “working days” excludes weekends and U.S. Federal holidays.

The only acceptable evidence to establish the date of mailing of an application received after the deadline date for the receipt of proposals sent by the U.S. Postal Service registered or certified mail is the U.S. postmark on the envelope or wrapper affixed by the U.S. Postal Service and on the original receipt from the U.S. Postal Service. The term “post marked” means a printed, stamped, or otherwise place impression (exclusive of a postage meter machine impression) that is readily identifiable without further action as having been supplied or affixed on the date of mailing by employees of the U.S. Postal Service.

Withdrawal of Applications. Applications may be withdrawn by written notice or telegram (including mailgram) received at any time before an award is made. Application may be withdrawn in person by the applicant or by an authorized representative thereof, if the representative's identify is made known and the representative signs a receipt for the proposal.

FOR FURTHER INFORMATION CONTACT: Questions should be faxed to Denise Roach, Grants Management Specialist, Division of Federal Assistance at (202) 693-2879 (This is not a toll free-number). All inquiries should include the SGA/DFA 02-107 and a contact name, fax and phone number. This solicitation will be also published on the Internet, on the Employment and Training Administration (ETA) home page at http://www.doleta.gov and www.usworkforce.org. Award notifications will also be announced on these two Web pages.

SUPPLEMENTARY INFORMATION: The Workforce Investment Act of 1998 (WIA) established a comprehensive reform of existing Federal job training programs with amendments impacting service delivery under the Wagner-Peyser Act, Adult Education and Literacy Act, and the Rehabilitation Act. A number of other Federal programs are also identified as required partners in the One-Stop delivery system to provide comprehensive services for all Americans to access the information and resources available that can help in the achievement of their career goals. The intention of the One-Stop system is to establish a network of programs and providers in co-located and integrated settings that are accessible for individuals and businesses alike in approximately 600 workforce investment areas established throughout the nation.

WIA established State and Local Workforce Investment Boards focused on strategic planning, policy development, and oversight of the workforce investment system, and accorded significant authority to the nation's Governors and local chief elected officials to further implement innovative and comprehensive delivery systems. The vision, goals and objectives for workforce development under the WIA decentralized system are fully described in the State strategic plan required under section 112 of the legislation. This State strategic workforce investment plan—and the operational experience gained by all the partners to date in implementing the WIA-instituted reforms—help identify the important “unmet needs” and latent opportunities to expand access to One-Stop by all the population segments within the local labor market.

Through these grants awards, ETA seeks to ensure that an important Workforce Investment Act tenet—universal access to the programs and services offered under WIA—is further rooted in the customer-responsive delivery systems already established by the Governors, local elected officials and local Workforce Investment Boards. Through these grant competitions, ETA also reaffirms its continuing commitment to those customer-focused reforms instituted by State and local governments which help Americans access the tools they need to manage their careers through information and high quality services, and to help U.S. companies find skilled workers.

On January 29, 2001, President George W. Bush issued Executive Order 13198, creating the Office for Faith-Based and Community Initiatives in the White House and centers in the departments of Labor, Health and Human Services (HHS), Housing and Urban Development (HUD), Education (ED), Justice (DOJ). President Bush charged the Cabinet centers with identifying statutory, regulatory, and bureaucratic barriers that stand in the way of effective faith-based and community initiatives, and to ensure, consistent with the law, that these organizations have equal opportunity to compete for federal funding and other support.

These solicitations reflect the outcome of discussions between the Department's Center for Faith-Based and Community-Based Initiatives (CFBCI) and ETA to provide expanded opportunities for the Federal-State-local partnerships under WIA to engage the faith-based and community-based organizations in service delivery, while providing additional points of entry for customers into the One-Stop system. These solicitations also reflect the Administration's interest in creating new avenues through which qualified grass-roots organizations can more fully participate under the Workforce Investment Act while bringing their particular strengths and talents in service provision to our customers.

These solicitations also proceed from an ETA-CFBCI mutual premise: the involvement of community-based organizations and faith-based organizations can complement and supplement the efforts of local workforce development systems in providing universal access and serving the training-, job- and career-support needs of many of our customers. Success in the implementation of the Workforce Investment Act is clearly derived from the power of partnerships. Many community-based organizations have fully participated with distinction as direct recipients or as sub-recipients of Federal resources under the Comprehensive Employment and Training Act (CETA) , the Job Training Partnership Act (JTPA) and are currently doing so under WIA. These solicitations are designed to bring other community-based organizations to the decision-making and service delivery mechanisms under WIA.

Faith-based and community-based organizations present credentials for full partnership in our mutual system-building endeavors. FBOs/CBOs are often trusted institutions within our poorest neighborhood, serving the very hardest-to-reach constituents in a cost-effective manner. FBOs/CBOs are home to a large number of volunteers who not only bring the transformational power of personal relationships to the provision of social service but a sustained allegiance to the well-being of their participants they serve. Through their daily work and specific programs, FBOs/CBOs strive to achieve some common purposes shared with government—reduction of welfare dependency, attainment of occupational skills, entry and retention of all our citizens in good-paying jobs. With appropriate planning, the FBO/CBO programs and resources can be leveraged into the workforce investment strategies already embodied in State and local strategic plans.

These three solicitations represent an important element of an overall strategy for outreach to the people served by our nation's community-based organizations and faith-based organizations. A Training and Employment Guidance Letter (TEGL) will be issued in April 2002 to state workforce agencies, worker adjustment liaisons, workforce liaisons, and One-Stop Center system leads. The TEGL will request these principals to commit to a full engagement with faith-based and community-based organizations. The TEGL will encourage local workforce boards to appoint member(s) who are familiar with the FBOs/CBOs that provide job training, soft skills training and employment services in the labor market, and work in conjunction with the state workforce agency's faith-based liaison to share ideas and collect promising practices. The TEGL also will ask the state principals to collaborate with the local workforce investment areas in creating a campaign to educate the appropriate FBOs/CBOs about the workforce investment system, One-Stop Centers, available grants-in-aid, and to invite their participation.

A total of $9.9 million is reserved for State grants. ETA expects to award 5 to 10 grants under this competition. The selected States under this competition will work toward increasing the number of community- and faith-based organizations as partners in the One-Stop delivery system. These states will seek to increase the access of those served by the community- and faith-based organizations to the many services offered by the One-Stops. The selected States will also share responsibility for identifying, showcasing and replicating successful instances of faith-based and community-based involvement.

A total of $500,000 is reserved for faith-based and community-based organizations to provide authorized services to WIA participants. ETA expects to award approximately 20 to 25 grants under this competition.

The provided services would supplement the services that local One-Stop delivery systems currently provide. The recipient organizations receiving grant funds will partner with the local Workforce Investment Boards and One-Stop operators to carry out various services of direct benefit to customers. The sub-grantees could offer, for example, “soft-skills” training such as communications, problem-solving, and time management which will allow the individual to function in an employment environment. Other sub-grantee activities can include GED tutoring of at-risk youth, after school programs for youth, day care for elders, job loss counseling, language translation services, “community audits” (a resource guide to support services within the community), and “cultural sensitivity” training programs.

These grants are made under the following authorities:

• The Workforce Investment Act of 1998 (WIA or the Act) (Pub. L. 105-220, 29 U.S.C. 2801 et seq.)

• WIA Final Rule, 20 CFR parts 652, 660-671 (65 FR 49294 (August 11, 2000));

• Interim Final Rule implementing the nondiscrimination and equal opportunity provision (section 188) of WIA, 29 CFR part 37 (64 FR 61692 (November 12, 1999));

• Planning Guidance and Instructions for Submission of the Strategic Five-Year State Plan for title I of the Workforce Investment Act of 1998 and the Wagner-Peyser Act (64 FR 9402 (February 25, 1999))

• Final Unified Plan Planning Guidance (65 FR 2464 (January 14, 2000))

• Executive Order 13198; “Rallying the Armies of Compassion”

• “Report on a Unlevel Playing Field: Barriers to Participation by Faith-Based and Community Organization in Federal Service Programs”

Period of Performance

The period of performance is one year.

Application Guidelines

Eligible Applicants

For purposes of this competition, “intermediaries” are defined as those non-profit, community, and/or faith-based organizations with connections to grassroots faith-based and community organizations with the ability to connect those organizations to the nation's workforce development system in more than one service area. The eligible intermediary does not have to be located in more than one jurisdiction as long as their reach extends beyond one jurisdiction, and the application addresses providing services in more than one jurisdiction.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement, i.e., avoid competition.

Eligible Sub-grantees and Allowable Activities

For purposes of this announcement, the intermediary may issue a sub-grant to a grassroots organization which

(a) is headquartered in the local community to which it provides services; and,

(i) Has a social services budget of $300,000 or less, or

(ii) Has 6 or fewer full-time equivalent employees.

The “$300,000 or less” budget includes only that portion of an organization's budget allocated to providing social services. It does not include other portions of the budget such as salaries and expenses. For purposes of this announcement local affiliates of national organizations are not considered “grassroots” and would not be eligible for a sub-grant award.

The Establishment Clause of the First Amendment of the United States Constitution prohibits the government from directly funding religious activity. These grants may not be used for instruction in religion or sacred literature, worship, prayer, proselytizing or other inherently religious practices. The services provided under these grants must be secular and non-ideological. Grant or sub-grant recipients, therefore, may not and will not be defined by reference to religion. Neutral, secular criteria that neither favor nor disfavor religion must be employed in their selection. In addition, under the WIA and DOL regulations implementing the Workforce Investment Act, a recipient may not employ or train a participant in sectarian activities, or permit participants to construct, operate, or maintain any part of a facility that is primarily used or devoted to sectarian instruction or worship. Under WIA, no individual shall be excluded from participation in, denied the benefits of, subjected to discrimination under, or denied employment in the administration of or in connection with, any such program or activity because of race, color, religion, sex (except as otherwise permitted under title IX of the Education Amendments of 1972), national origin, age, disability, or political affiliation or belief.

Application Process

The application must clearly identify the applicant (or the fiscal agent), the grant recipient (and/or fiscal agent), and its capacity to administer this project. Applicants must submit one copy with an original signature and two additional copies of their proposal. The proposal must include the Application for Federal Assistance (SF-424A) signed by the representative authorized by the governing body of the applicant to enter into grant agreement.

This application must be double-spaced, and on single-sided, numbered pages. A font size of at least twelve (12) pitch is required throughout.

There are four required sections: Application for Federal Assistance (SF 424A), Intermediary Description and Project Timeline, Statement of Work, and Budget Information (SF 424B). ETA will not consider applications that fail to provide complete information in these four sections.

Section I—Application for Federal Assistance (SF 424A) (See Appendix “A”)

Section II—Intermediary Description and Project Timeline (2 to 3 pages)

Format requirements for Section II are limited to no more than two to three pages. This section should include:

• The geographic area to be addressed through this grant (enumeration of State, multiple States, or identifiable subset of local workforce investment areas within State(s).

• The names of the local investment workforce areas in the State(s) proposed to be served through the activities of this grant. (A State-by-State listing of local workforce areas may be found at http://www.nawb.org/asp/wibdir.asp)

• The constituent members (as appropriate) of this intermediary.

• The primary mission of these constituent members irrespective of participation in the grant proposal, and what political and geographic jurisdictions (e.g., cities, counties, subsections of cities/counties) they serve.

• Written confirmation from the applicant that it will cooperate with all entities receiving funding under the Workforce Investment Act and (as appropriate) and with all other recipients of community-based and faith-based investments under the ETA/OFCBI grant strategy outlined in this announcement.

• A general timeline for all discrete projects and activities to be undertaken under the Statement of Work.

Section III—Statement of Work (not to exceed 12 to 15 pages)

The Statement of Work represents the applicant's plans to meet the system-building objectives through assisting grass-roots organizations in developing grant management expertise and skills to allow a fuller participation in the nation's workforce development system. The Department expects that the intermediary will accomplish these objectives through a series of sub-grants to qualified grass-roots organizations. The intermediary will manage the grants, removing the administrative burden from the smaller organization. The intermediary's staff will provide mentoring and technical assistance to build the smaller organizations' capacity.

The Statement of Work will include:

(1) Prior grants management experience (as described on “Performance History with Grants Management” in the “Review Process and Evaluation Criteria”).

(2) Description of the proposed program (as described in “Project Plan” in the “Review Process and Evaluation Criteria”).

Section IV—Budget Information (SF-424B) (See Appendix “B”)

Note: Administrative Costs: Pursuant to 20 CFR 667.210(b), grantees are advised that there is a 10% limitation on administrative costs on funds administered under this grant. The Grant Officer may, however, approve additional administrative costs, up to a maximum of 15% of the total award amount, for that grantee providing adequate justification. In no event, may administrative costs exceed 15% of the total award amount. The cost of administration shall include those disciplines enumerated in 20 CFR 667.220(b) and (c).

Review Process and Evaluation Criteria

Through this grant (and the other allocation of Federal resources outlined in the Summary), ETA and OFCBI seek:

• A verifiable increase in the participation of community-based organizations and faith-based organizations participating in the nation's decentralized One-Stop delivery system.

• A verifiable increase in the number of community service points from which customers and clients of faith-based and community-based organizations gain access to the information products and services provided through the system.

• An increase in the number of total individuals assisted by the publicly-funded workforce development system, with corresponding improvements in service delivery, grantee and service provider performance, and customer satisfaction.

ETA, CFBCI and other Federal agency staff are expected to serve on the technical panel(s) which will review all applications against the criteria listed below. The panel recommendations are advisory. The ETA grant officer will fully consider the panel recommendations but take into account geographic balance and other factors to ensure the most advantageous award of these funds to accomplish the system-building purposes outlined in the Summary and Statement of Work. The grant officer reserves the right to award without further negotiation.

Section V—Criteria

Performance History With Grants Management (25 points)

The applicant must provide a statement of its performance history with management of resources under governmental grants-in-aid programs. The Department will be evaluating applications based on the scope, strength, and “record of achievement:” which will be demonstrated by responses to the following requirements:

Provide the names of the local investment workforce areas in the State(s) proposed to be served through the activities of this grant. (A State-by-State listing of local workforce areas may be found at http://www.nawb.org/asp/wibdir.asp). Identify the constituent members (as appropriate) of this intermediary. Describe the primary mission of these constituent members irrespective of participation in the grant proposal, and what political and geographic jurisdictions (e.g., cities, counties, subsections of cities/counties) they serve.

(5 points)

Describe:

Relevant history of the intermediary in managing resources through grant awards from Federal Departments (particularly those from the Departments of Labor, Education, Housing and Urban Development, and Health and Human Services), State governments or units of local governments.

Applicant's history of working with small organizations. (Be sure to include past experience in developing other organization's capacity for social service delivery, competing for grants, and managing grants.)

Information campaigns used and technical assistance provided to other organizations to develop their capacity.

Discuss any recent involvement of the intermediary as a partner or provider in the One-Stop Stop delivery system for employment and training services. Describe any current relationship with the State Workforce Investment Board(s) and/or local Workforce Investment Boards.

(20 points)

Project Plan (75 points)

The Project Plan provides the applicant's “road-map” for building infrastructure and a set of working relationships with smaller grass-roots organizations. The Department will be evaluating the scope and quality of the Project Plan against several criteria. Both outreach and the management of the sub-grant process are critical to the project plan. The narrative, therefore, should offer the applicant's strategies that meet the requirements listed below.

Describe the steps the intermediary will undertake to take advantage of the partnership and participation opportunities offered by WIA.

(15 points)

Describe the methodology for identification of grassroots organizations that will be eligible for sub-grant awards. Describe the outreach strategies that will support this identification. Define the criteria and methodology for awarding sub-grants to the identified grassroots FBOs/CBOs. (The sub-grant award schedule should be consistent with the project timeline contained in Section II).

(15 points)

Outline the plans for the intermediary's sub-grant management, technical assistance and mentoring. Describe the capacity-building efforts to be undertaken through these resources to establish (or strengthen) the existing administrative potential of grassroots organizations to receive future grants or sub-grants from State and local workforce investment principals.

(30 points)

Describe “methods of evaluation” to determine the success of the mentoring and technical assistance efforts with its sub-grantees. Summarize the documentation strategies for the activities undertaken during the life of the grant for ETA and CFBCI use in working with other intermediaries.

(15 points)

Reporting Requirement

The grantee must submit quarterly narrative progress and financial reports. The grantee must also prepare and submit a final report summarizing all accomplishments under the grant. The format of all reports and submission instructions will be contained in the grant document.

Signed in Washington, DC, this 10th of April, 2002.
James W. Stockton,
Grant Officer.

Appendix A: (SF) 424—Application Form

Appendix B: Budget Information Form

BILLING CODE 4510-30-C

[FR Doc. 02-9261 Filed 4-16-02; 8:45 am]

BILLING CODE 4510-30-C